INTERNATIONAL TRADE COMMISSION

[Investigation No. 332-325]

The Economic Effects of Significant U.S. Import Restraints: Seventh Update; Special Topic: Global Supply Chains

AGENCY: United States International Trade Commission.

ACTION: Notice of seventh update report and scheduling of public hearing.

SUMMARY: Following receipt of a request dated August 16, 2010 from the United States Trade Representative (USTR), the U.S. International Trade Commission (Commission) has announced its schedule for preparing the seventh update report in investigation No. 332-325, The Economic Effects of Significant U.S. Import Restraints, including the scheduling of a public hearing in connection with the investigation for December 16, 2010.

Dates:

November 29, 2010: Deadline for filing requests to appear at the public hearing.

November 29, 2010: Deadline for filing pre-hearing briefs and statements.

December 16, 2010: Public hearing.

January 6, 2011: Deadline for filing post-hearing briefs and statements.

February 7, 2011: Deadline for filing all other written submissions.

August 12, 2011: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project Leader William Powers (william.powers@usitc.gov or 202-708-5405) or Deputy Project Leader Jose Signoret (jose.signoret@usitc.gov or 202-205-3125) for information specific to this investigation (the seventh update). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The Commission instituted this investigation under Section 332(g) of the Tariff Act of 1930 (19 U.S.C. 1332(g)) following receipt of an initial request from the USTR dated May 15, 1992. The request asked that the Commission assess the quantitative economic effects of significant U.S. import restraints on the U.S. economy and prepare periodic update reports after the initial report. The Commission published a notice of institution of the investigation in the Federal Register of June 17, 1992 (57 FR 27063). The first report was delivered to the USTR in November 1993, the first update in December 1995, and successive updates were delivered in 1999, 2002, 2004, 2007, and 2009. In this seventh update, as requested by the USTR in a letter dated August 16, 2010, the Commission will, in addition to the quantitative effects analysis similar to that included in prior reports, include an overview of global supply chains, including the economic forces behind them and current U.S. involvement in them. The USTR asked that the overview be accessible to readers who may not be professional economists. As in previous reports in this series, the seventh update will continue to assess the economic effects of significant import restraints on U.S. consumers and firms, the income and employment of U.S. workers, and the net economic welfare of the United States. This assessment will use the Commission's computable general equilibrium model. However, as per earlier instructions from the USTR, the Commission will not assess import restraints resulting from antidumping or countervailing duty investigations, section 337 and 406 investigations, or section 301 actions.

Public Hearing: A public hearing in connection with this investigation will be held at the United States International Trade Commission Building, 500 E Street SW., Washington, DC, beginning at 9:30 a.m. on December 16, 2010. Requests to appear at the hearing should be filed with the Secretary no later than 5:15 p.m., November 29, 2010, in accordance with the requirements in the “Submissions” section below. All pre-hearing briefs and statements should be filed not later than 5:15 p.m., November 29, 2010; and all post-hearing briefs and statements should be filed not later than 5:15 p.m., January 6, 2011. In the event that, as of the close of business on November 29, 2010, no witnesses are scheduled to appear at the hearing, the hearing will be canceled. Any person interested in attending the hearing as an observer or nonparticipant may call the Secretary to the Commission (202-205-2000) after November 29, 2010, for information concerning whether the hearing will be held.

Written Submissions: In lieu of or in addition to participating at the hearing, interested parties are invited to file written submissions concerning this investigation. All written submissions (other than pre- and post-hearing briefs and statements) should be addressed to the Secretary, and should be received not later than 5:15 p.m., February 7, 2011. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In its request letter, the USTR stated that his office intends to make the Commission's report available to the public in its entirety, and asked that the Commission not include any confidential business information or national security classified information in the report it sends to the USTR. Any confidential business information received by the Commission in this investigation and used in preparing this report will not be published in a manner that would reveal the operations of the firm supplying the information.

By order of the Commission.
Issued: October 14, 2010.
William R. Bishop,
Acting Secretary to the Commission.

[FR Doc. 2010-26235 Filed 10-18-10; 8:45 am]

BILLING CODE P